DEPARTMENT OF LABOR

Occupational Safety and Health Administration

[Docket No. OSHA-2010-0012]

National Advisory Committee on Occupational Safety and Health

AGENCY: Occupational Safety and Health Administration (OSHA), Labor.

ACTION: Announcement of meeting of the National Advisory Committee on Occupational Safety and Health (NACOSH) and NACOSH subgroup meetings.

SUMMARY: The National Advisory Committee on Occupational Safety and Health (NACOSH) will meet September 14 and 15, 2010, in Washington, DC. In conjunction with the NACOSH meeting, its Gulf Oil Spill Subgroup will meet.

DATES: NACOSH meeting: NACOSH will meet from 8:30 a.m. to 4:30 p.m., on Tuesday, September 14, and Wednesday, September 15, 2010.

Submission of comments, requests to speak, and requests for special accommodation: Comments, requests to speak at the NACOSH meeting, and requests for special accommodations for the NACOSH meeting must be submitted (postmarked, sent, transmitted) by September 7, 2010.

ADDRESSES: NACOSH meeting: NACOSH will meet in Room N-N3437 A/B/C, U.S. Department of Labor, 200 Constitution Avenue, NW., Washington, DC 20210.

Submission of comments and requests to speak: You may submit comments and requests to speak at the NACOSH meeting, identified by docket number for this Federal Register notice (Docket No. OSHA-2010-0012), by one of the following methods:

Electronically: You may submit materials, including attachments, electronically at http://www.regulations.gov, the Federal eRulemaking Portal. Follow the online instructions for making submissions.

Facsimile: If your submission, including attachments, does not exceed 10 pages, you may fax it to the OSHA Docket Office at (202) 693-1648.

Mail, express delivery, messenger or courier service: Submit three copies of your submissions to the OSHA Docket Office, Room N-2625, U.S. Department of Labor, 200 Constitution Avenue, NW., Washington, DC 20210, telephone (202) 693-2350 (TTY (887) 889-5627). Deliveries (hand, express mail, messenger, courier service) are accepted during the Department of Labor's and OSHA Docket Office's normal business hours, 8:15 a.m. to 4:45 p.m. e.t.

Requests for special accommodation: Submit requests for special accommodations for the NACOSH meeting by hard copy, telephone, or e-mail to Ms. Veneta Chatmon, OSHA, Office of Communications, Room N-3647, U.S. Department of Labor, 200 Constitution Avenue, NW., Washington, DC 20210; telephone (202) 693-1999; e-mail chatmon.veneta@dol.gov.

Instructions: All submissions must include the Agency name and docket number for this Federal Register notice (Docket No. OSHA-2010-0012). Because of security-related procedures, submission by regular mail may result in significant delay in receipt. Please contact the OSHA Docket Office for information about security procedures for making submissions by hand delivery, express delivery, messenger or courier service. For additional information about submitting comments and requests to speak, see the SUPPLEMENTARY INFORMATION section of this notice.

Comments and requests to speak, including personal information, are placed in the public docket without change and may be available online. Therefore, OSHA cautions against submitting personal information such as social security numbers and birthdates.

Docket: To read or download documents in the public docket for this NACOSH meeting, go to http://www.regulations.gov. All documents in the public docket are listed in the index; however, some documents (e.g., copyrighted material) are not publicly available to read or download through http://www.regulations.gov. All submissions, including copyrighted material, are available for inspection and copying at the OSHA Docket Office at the address above.

FOR FURTHER INFORMATION CONTACT: For press inquiries: MaryAnn Garrahan, OSHA, Office of Communications, U.S. Department of Labor, Room N3647, 200 Constitution Avenue, NW., Washington, DC 20210; telephone (202) 693-1999.

For general information: Ms. Deborah Crawford, OSHA, Directorate of Evaluation and Analysis, U.S. Department of Labor, Room N-3641, 200 Constitution Avenue, NW., Washington DC 20210; telephone: (202) 693-1932; e-mail crawford.deborah@dol.gov.

SUPPLEMENTARY INFORMATION: NACOSH will meet Tuesday, September 14 and Wednesday, September 15, 2010, in Washington, DC. NACOSH meetings are open to the public.

NACOSH is authorized by section 7(a) of the Occupational Safety and Health Act of 1970 (OSH Act) (29 U.S.C. 651, 656) to advise the Secretary of Labor and the Secretary of Health and Human Services on matters relating to the administration of the OSH Act. NACOSH is a continuing advisory body and operates in compliance with provisions in the OSH Act, the Federal Advisory Committee Act (5 U.S.C. App.), and regulations issued pursuant to those laws (29 CFR 1912a, 41 CFR part 102-3).

The tentative agenda of the NACOSH meeting will include updates and discussions on the following topics:

• Remarks from the Assistant Secretary of Labor for Occupational Safety and Health (OSHA);

• Remarks from the Director of the National Institute for Occupational Safety and Health;

• OSHA Initiatives: Regulatory, Enforcement and Compliance Assistance;

• Update on the Gulf Oil Spill activities;

• Enhancing workers' voice in the workplace; and

• Ethics Update.

In addition, the Gulf Oil Spill subgroup was formed at the June 8, 2010, NACOSH meeting. The subgroup will meet from 3 p.m. until 4:30 p.m. on September 14, 2010, in Room N3437A/B/C and report back to the full committee on September 15.

NACOSH meetings are transcribed and detailed minutes of the meetings are prepared. Meeting transcripts and minutes are included in the public record of this NACOSH meeting (Docket No. OSHA 2010-0012).

Public Participation

Interested parties may submit a request to make an oral presentation to NACOSH by any one of the methods listed in the ADDRESSES section above. The request must state the amount of time requested to speak, the interest represented (e.g., organization name), if any and a brief outline of the presentation. Requests to address NACOSH may be granted as time permits and at the discretion of the NACOSH chair.

Interested parties also may submit comments, including data and other information using any one of the methods listed in the ADDRESSES section above. OSHA will provide all submissions to NACOSH members prior to the meeting.

Individuals who need special accommodations to attend the NACOSH meeting should contact Ms. Chatmon using the contact information listed in the ADDRESSES section.

Submissions and Access to Meeting Record

You may submit comments and requests to speak (1) Electronically, (2) by facsimile, or (3) by hard copy. All submissions, including attachments and other materials, must identify the Agency name and the docket number for this notice (Docket No. OSHA-2010-0012). You also may supplement electronic submissions by uploading documents electronically. If, instead, you wish to submit hard copies of supplementary documents, you must submit three copies to the OSHA Docket Office using the instructions in the ADDRESSES section above. The additional materials must clearly identify your electronic submission by name, date and docket number.

Because of security-related procedures, the use of regular mail may cause a significant delay in the receipt of submissions. For information about security procedures concerning submissions by hand, express delivery, messenger or courier service, please contact the OSHA Docket Office.

Meeting transcripts and minutes as well as comments and requests to speak at the NACOSH meeting are included in the public record of the NACOSH meeting (Docket No. OSHA-2010-0012). Comments and requests to speak are posted without change at http://www.regulations.gov. Therefore, OSHA cautions interested parties about submitting personal information such as social security numbers and birthdates. Although all submissions are listed in the http://www.regulations.gov index, some documents (e.g., copyrighted materials) are not publicly available to read or download through that webpage. All submissions, including copyrighted material, are available for inspection and copying at the OSHA Docket Office.

For information on using http://www.regulations.gov to make submissions and to access the docket, click on the “Help” tab at the top of the Home page. Contact the OSHA Docket Office for information about materials not available through that webpage and for assistance in using the Internet to locate submissions and other documents in the docket. Electronic copies of this Federal Register notice are available at http://www.regulations.gov. This notice, as well as news releases and other relevant information, is also available on the OSHA webpage at http://www.osha.gov.

Authority and Signature

David Michaels, PhD, MPH, Assistant Secretary of Labor for Occupational Safety and Health, directed the preparation of this notice under the authority granted by section 7 of the Occupational Safety and Health Act of 1970 (U.S.C. 656), 29 CFR 1912a, and Secretary of Labor's Order No. 5-2007 (71 FR 31160).

Signed at Washington, DC, on August 26, 2010.
David Michaels,
Assistant Secretary of Labor for Occupational Safety and Health.

[FR Doc. 2010-21680 Filed 8-27-10; 8:45 am]

BILLING CODE 4510-26-P